DEPARTMENT OF LABOR

Employment and Training Administration

[TA-W-71,047; TA-W-71,047A]

Amended Revised Determination on Reconsideration

UAW-Chrysler Technical Training Center, Technology Training Joint Programs Staff Including On-Site Leased Workers from Manpower, Detroit, Michigan; UAW-Chrysler Technical Training Center, Technology Training Joint Programs Staff, Including On-Site Leased Workers from Manpower, Warren, Michigan

In accordance with Section 223 of the Trade Act of 1974, as amended (“Act”), 19 U.S.C. 2273, the Department of Labor (Department) issued a Revised Determination on Reconsideration on December 22, 2010, applicable to workers of UAW-Chrysler Technical Training Center, Technology Training Joint Programs Staff, Detroit, Michigan and Warren, Michigan. Workers provide technical training such as applied industrial technology, industrial automation, industrial maintenance and welding. The Department's notice was published in the Federal Register on January 12, 2011 (76 FR 2147-2148).

At the request of the State agency, the Department reviewed the certification for workers of the subject firm.

New findings show that workers leased from Manpower were employed at the Detroit, Michigan and Warren, Michigan locations of UAW-Chrysler National Training Center, Technology Training Joint Programs Staff. The Department has determined that these workers were sufficiently under the control of the subject firm to be considered leased workers. Accordingly, the Department is amending this certification to properly reflect this matter.

The intent of the Department's certification is to include all workers of the subject firm who were adversely affected by increased imports. The amended notice applicable to TA-W-71,047 and TA-W-71,047A are hereby issued as follows:

All workers of UAW-Chrysler National Training Center, Technology Training Joint Programs Staff, including on-site leased workers from Manpower, Detroit, Michigan (TA-W-71,047) and Warren, Michigan (TA-W-71,047A), who became totally or partially separated from employment on or after May 27, 2008, through December 22, 2012, and all workers in the group threatened with total or partial separation from employment on date of certification through two years from the date of certification, are eligible to apply for adjustment assistance under Chapter 2 of Title II of the Trade Act of 1974, as amended.

Signed in Washington, DC, this 18th day of May, 2011.
Del Min Amy Chen,
Certifying Officer, Office of Trade Adjustment Assistance.

[FR Doc. 2011-13142 Filed 5-26-11; 8:45 am]

BILLING CODE 4510-FN-P